DEPARTMENT OF LABOR

Office of the Secretary

Agency Information Collection Activities; Submission for OMB Review; Comment Request; Rehabilitation Maintenance Certificate

ACTION: Notice.

SUMMARY: The Department of Labor (DOL) is submitting the Office of Workers' Compensation Programs (OWCP) sponsored information collection request (ICR) revision titled, “Rehabilitation Maintenance Certificate,” to the Office of Management and Budget (OMB) for review and approval for use in accordance with the Paperwork Reduction Act of 1995 (PRA), 44 U.S.C. 3501 et seq. Public comments on the ICR are invited.

DATES: The OMB will consider all written comments that agency receives on or before August 24, 2015.

ADDRESSES: A copy of this ICR with applicable supporting documentation; including a description of the likely respondents, proposed frequency of response, and estimated total burden may be obtained free of charge from the RegInfo.gov Web site at http://www.reginfo.gov/public/do/PRAViewICR?ref_nbr=201503-1240-001 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-OWCP, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the Rehabilitation Maintenance Certificate, Form OWCP-17, information collection. The OWCP administers the Federal Employees' Compensation Act (FECA), 5 U.S.C. 8101 et seq., and the Longshore and Harbor Workers' Compensation Act (LHWCA), 33 U.S.C. 901 et seq. The FECA provides that the OWCP may pay an individual undergoing vocational rehabilitation a maintenance allowance not to exceed $200 a month. The LHWCA provides that a person undergoing such vocational rehabilitation shall receive a maintenance allowance as additional compensation. The OWCP uses information provided on Form OWCP-17 to determine the amount of any maintenance allowance to be paid. A program participant or contractor the agency hires to provide vocational rehabilitation services submits the form to the OWCP to request payment of an additional rehabilitation maintenance amount to cover incidental costs of obtaining vocational rehabilitation services. For example, when a disabled worker attends a training program, Form OWCP-17 may be used to request reimbursement of out-of-pocket costs such as travel expenses. This information collection has been classified as a revision; several minor changes were made to Form OWCP-17 that should enhance recordkeeping, ease of use, and to reflect current administrative practices. The FECA and the LHWCA authorize this information collection. See 5 U.S.C. 8121 and 33 U.S.C. 939.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1240-0012. The current approval is scheduled to expire on August 31, 2015; however, the DOL notes that existing information collection requirements submitted to the OMB receive a month-to-month extension while they undergo review. New requirements would only take effect upon OMB approval. For additional substantive information about this ICR, see the related notice published in the Federal Register on April 29, 2015 (80 FR 23823).

Interested parties are encouraged to send comments to the OMB, Office of Information and Regulatory Affairs at the address shown in the ADDRESSES section within thirty (30) days of publication of this notice in the Federal Register. In order to help ensure appropriate consideration, comments should mention OMB Control Number 1240-0012. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Rehabilitation Maintenance Certificate.

OMB Control Number: 1240-0012.

Affected Public: Individuals or Households.

Total Estimated Number of Respondents: 370.

Total Estimated Number of Responses: 3,752.

Total Estimated Annual Time Burden: 625 hours.

Total Estimated Annual Other Costs Burden: $0.

Dated: July 17, 2015.
Michel Smyth,
Departmental Clearance Officer.

[FR Doc. 2015-18068 Filed 7-22-15; 8:45 am]

BILLING CODE 4510-CR-P